NATIONAL SCIENCE FOUNDATION

Sunshine Act Meetings

The National Science Board (NSB) and the NSB Committee on Strategy (CS) hereby give notice of the scheduling of meetings for the transaction of National Science Board business pursuant to the National Science Foundation Act and the Government in the Sunshine Act.

TIME AND DATE: Tuesday, May 9, 2023, from 8:30 a.m.-3:55 p.m. and Wednesday, May 10, 2023, from 8:30 a.m.-3:00 p.m. EDT.

PLACE: These meetings will be held at NSF headquarters, 2415 Eisenhower Avenue, Alexandria, VA 22314, and by videoconference. To attend in-person, please email your name as it appears on your photo ID, along with your affiliation, at least 24 hours in advance to nationalsciencebrd@nsf.gov. If the COVID status for Alexandria, Virginia goes to “high,” please fill out and bring OMB's certification of vaccination form with you. All open sessions of the meeting will be webcast live on the NSB YouTube channel.

May 9, 2023— https://www.youtube.com/watch?v=hydV2SXt6eA

May 10, 2023— https://www.youtube.com/watch?v=iFZ7N88SjB8

STATUS: Parts of these meetings will be open to the public. The rest of the meetings will be closed to the public. See full description below.

MATTERS TO BE CONSIDERED:

Tuesday, May 9, 2023

Plenary Board meeting

Open session: 8:30-11:35 a.m.

• NSB Chair's Opening Remarks

• NSF Director's Remarks

• Senior Executive Updates

• Approval of February 2023 open meeting minutes

• National Center for Science and Engineering Statistics Briefing

• Briefing, Women, Minorities, and Persons with Disabilities, 2023 Report

• Response, Committee on Equal Opportunities in Science and Engineering

• NSB Chair's Opening Remarks

• Committee on National Science and Engineering Policy Report

• SEP Activities and Discussion on Quadrennial Review

• Q&A Session with 2023 Vannevar Bush, NSB Science and Society, and Alan T. Waterman Awardees

Open session: 12:35-1:05 p.m.

• NSF Update—Sexual Assault and Harassment Prevention (SAHPR) Report

Closed session: 1:05-1:55 p.m.

• NSB Chair's Remarks

• Approval of February 2023 Closed Meeting Minutes

• NSF Update—SAHPR Report Issues

• NSF Director's Remarks

• Agency Operating Status

Committee on Strategy

Closed meeting: 2:10 -3:25 p.m.

• FY 2025 Budget Update

Closed session: 3:25-3:55 p.m.

• Subcommittee on Technology Innovation, and Partnerships

• NSF Engines, Review/Award Process

• NSB Chair's Remarks

Wednesday, May 10, 2023

Plenary Board meeting

Open session: 8:30-9:05 a.m.

• NSB Chair's Opening Remarks

• NSF Office of the Inspector General Report

• Overview of the OIG and its Responsibilities

Plenary Board meeting

Closed session: 9:05-10:25 a.m.

• Committee on Awards and Facilities Report

• Antarctic Infrastructure Recapitalization program

• National Center for Atmospheric Research Operations and Management award

• Ocean Observatories Initiative Operations and Management award

• National Ecological Observatory Network Recompeted Operations and Management award

• Antarctic Research Vessel (ARV) Integrator

• Renewal of Laser Interferometer Gravitational-Wave Observatory (LIGO) Operations and Management Award

• Arecibo Record of Decision

Plenary Board

Open session: 10:40-11:55 a.m.

• Committee on External Engagement Report

• STEM Talent Engagement Plan

• Science and Engineering 2024 Engagement Plan

• Committee on Oversight Report

• NSB Overview to the Merit Review Digest

• NSB-NSF Merit Review Commission Report Vote on Mid-scale Research Infrastructure Track 2 Portfolio Award

• Committee on Strategy Report

• Committee on Oversight Report

• Subcommittee on Technology, Innovation, and Partnerships Report

Plenary Board

Open session: 1:00-1:30 p.m.

• Working Group Reports

• Socioeconomic Status

• K-12 STEM Education Exploratory Group Update

• Vote to Enter Executive Plenary Closed

Plenary Board

Closed (executive) session: 1:30 p.m.-3:00 p.m.

• NSB Chair's Opening Remarks

• Approval of February 2023 Executive Plenary closed meeting minutes

• Executive Committee Elections

• Committee on Nominations, Class of 2024-2030

• NSF Director's Remarks

• NSB Chair's Closing Remarks

Meeting Adjourns: 3:00 p.m.

Portions Open to the Public

Tuesday, May 9, 2023

8:30 a.m.-11:35 a.m. Plenary NSB

12:35 p.m.-1:05 p.m. Plenary NSB

Wednesday, May 10, 2023

8:30 a.m.-9:05 a.m. Plenary NSB

10:40 a.m.-11:55 a.m. Plenary NSB

1:00 p.m.-1:30 p.m. Plenary NSB

Portions Closed to the Public

Tuesday, May 9, 2023

1:05 p.m.-1:55 p.m. Plenary NSB

2:10 p.m.-3:25 p.m. Committee on Strategy

3:25 p.m.-3:55 p.m. Plenary NSB

Wednesday, May 10, 2023

9:05 a.m.-10:25 a.m. Plenary NSB

1:30 p.m.-3:00 p.m. Plenary NSB (executive session)

Members of the public are advised that the NSB provides some flexibility around start and end times. A session may be allowed to run over by as much as 15 minutes if the Chair decides the extra time is warranted. The next session will start no later than 15 minutes after the noticed start time. If a session ends early, the next meeting may start up to 15 minutes earlier than the noticed start time. Sessions will not vary from noticed times by more than 15 minutes.

CONTACT PERSON FOR MORE INFORMATION:

The NSB Office contact is Chris Blair, cblair@nsf.gov, 703-292-7000. The NSB Public Affairs contact is Nadine Lymn, nlymn@nsf.gov, 703-292-2490. Please refer to the NSB website for additional information: https://www.nsf.gov/nsb.

Christopher Blair,
Executive Assistant to the National Science Board Office.

[FR Doc. 2023-09687 Filed 5-3-23; 11:15 am]

BILLING CODE 7555-01-P